FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than September 29, 2010.

A. Federal Reserve Bank of Cleveland (Nadine Wallman, Vice President) 1455 East Sixth Street, Cleveland, Ohio 44101-2566:

1. Clay P. Graham, Bryan H. Graham, both in Zanesville, Ohio, and James F. Graham, Hebron, Ohio; to acquire voting shares of North Valley Bancshares, Inc., and thereby indirectly acquire voting shares of North Valley Bank, both of Zanesville, Ohio.

B. Federal Reserve Bank of Kansas City (Dennis Denney, Assistant Vice President) 1 Memorial Drive, Kansas City, Missouri 64198-0001:

1. Edward F. and Sharon R. Lueger, both of Seneca, Kansas; Eugene and Janet Lueger, both of St. Marys, Kansas; Galen and Carol A. Lueger, both of Goff, Kansas; Gerald J. and Karla Lueger, both of St. Marys, Kansas; James J. and Joan M. Lueger, both of Seneca, Kansas, individually and as trustees of the James J. and Joan M. Lueger Revocable Living Trust; Robert and Susan Lueger, both of Shorewood, Wisconsin, individually and as trustees of the Robert J. and Susan A. Lueger Trust; Thomas Lueger, Leslie Lueger, Thomas A. Lueger, and Debra Lueger, all of Plattsmouth, Nebraska; Mary L. and Steven Nelson, both of Parkville, Missouri; Bradley J. and Susan R. Lueger, both of Seneca, Kansas; Brian M. Lueger, Olathe, Kansas; Marissa A. Lueger, Seneca, Kansas; Russell A. Lueger, Beloit, Kansas; Lori A. and Justin F. Lueger, both of Eudora, Kansas; all as members of the Lueger Family Group, to retain control of Community Bancshares, Inc., and thereby indirectly retain control of Community National Bank, both in Seneca, Kansas.

Board of Governors of the Federal Reserve System, September 9, 2010.
Jennifer J. Johnson,
Secretary of the Board.

[FR Doc. 2010-22992 Filed 9-14-10; 8:45 am]

BILLING CODE 6210-01-S